ENVIRONMENTAL PROTECTION AGENCY

[FRL-8896-9]

Cross-Media Electronic Reporting Rule State Approved Program Revision/Modification Approval: State of Louisiana

AGENCY: Environmental Protection Agency (EPA).

ACTION: Notice.

SUMMARY: This notice announces EPA's approval, under regulations for Cross-Media Electronic Reporting, of the State of Louisiana's request to revise/modify their EPA-authorized National Pollutant Discharge Elimination System (NPDES) State Program Requirements and General Pretreatment Regulations for Existing and New Sources of Pollution programs to allow electronic reporting for those programs.

DATES: EPA's approval is effective April 27, 2009.

FOR FURTHER INFORMATION CONTACT: Evi Huffer, U.S. Environmental Protection Agency, Office of Environmental Information, Mail Stop 2823T, 1200 Pennsylvania Avenue, NW., Washington, DC 20460, (202) 566-1697, huffer.evi@epa.gov, or David Schwarz, U.S. Environmental Protection Agency, Office of Environmental Information, Mail Stop 2823T, 1200 Pennsylvania Avenue, NW., Washington, DC 20460, (202) 566-1704, schwarz.david@epa.gov.

SUPPLEMENTARY INFORMATION: On October 13, 2005, the final Cross-Media Electronic Reporting Rule (CROMERR) was published in the Federal Register (70 FR 59848) and codified as Part 3 of title 40 of the CFR. CROMERR establishes electronic reporting as an acceptable regulatory alternative to paper reporting and establishes requirements to assure that electronic documents are as legally dependable as their paper counterparts. Under Subpart D of CROMERR, State, tribal or local government agencies that receive, or wish to begin receiving, electronic reports under their EPA-authorized programs must apply to EPA for a revision or modification of those programs and get EPA approval. Subpart D also provides standards for such approvals based on consideration of the electronic document receiving systems that the State, tribal, or local government will use to implement the electronic reporting. Additionally, in § 3.1000(b) through (e) of 40 CFR Part 3, Subpart D provides special procedures for program revisions and modifications to allow electronic reporting, to be used at the option of the State, tribal or local government in place of procedures available under existing program-specific authorization regulations. An application submitted under the Subpart D procedures must show that the State, tribal or local government has sufficient legal authority to implement the electronic reporting components of the programs covered by the application and will use electronic document receiving systems that meet the applicable Subpart D requirements.

On December 17, 2008, the State of Louisiana Department of Environmental Quality (LDEQ) submitted an application for their Net Discharge Monitoring Report (NetDMR) electronic document receiving system addressing revisions/modifications to their EPA-authorized 40 CFR Part 123—NPDES State Program Requirements and Part 403-General Pretreatment Regulations for Existing and New Sources of Pollution approved programs.

EPA has reviewed LDEQ's request to revise their EPA-authorized programs and, based on this review, EPA has determined that the application for the programs and specific reports identified in this Notice meet the standards for approval of authorized program revisions/modifications set out in 40 CFR part 3, subpart D. In accordance with 40 CFR 3.1000(d), this notice of EPA's decision to approve LDEQ's request for revision/modification to their authorized programs is being published in the Federal Register. Specifically, EPA has approved LDEQ's request for revision/modification to the following authorized programs to allow electronic reporting for the specified reports: 40 CFR Part 123—NPDES State Program Requirements and Part 403—General Pretreatment Regulations for Existing and New Sources of Pollution programs for electronic reporting of discharge monitoring report information submitted under 40 CFR Parts 122 and 403.

LDEQ was notified of EPA's determination to approve its application with respect to the authorized programs and reports listed above in a letter dated 04/16/2009.

Dated: April 16, 2009.
Lisa Schlosser,
Director, Office of Information Collection.

[FR Doc. E9-9578 Filed 4-24-09; 8:45 am]

BILLING CODE 6560-50-P